NUCLEAR REGULATORY COMMISSION

[Docket Nos. 52-025 and 52-026; NRC-2008-0252]

Southern Nuclear Operating Company, Inc., Vogtle Electric Generating Plant, Units 3 and 4; Issuance of Amendment and Exemption Changes to Tier 1 Information Regarding Invessel Components

AGENCY: Nuclear Regulatory Commission.

ACTION: Exemption and combined license amendment; issuance.

SUMMARY: The U.S. Nuclear Regulatory Commission (NRC) is granting an exemption to allow a departure from the Tier 1 certification information in the generic design control document (DCD) for the AP1000 design certification and is issuing License Amendment Nos. 188 and 186 to Combined Licenses (COLs), NPF-91 and NPF-92, respectively. The COLs were issued to Southern Nuclear Operating Company, Inc. (SNC), and Georgia Power Company, Oglethorpe Power Corporation, MEAG Power SPVM, LLC, MEAG Power SPVJ, LLC, MEAG Power SPVP, LLC, and the City of Dalton, Georgia; for the Vogtle Electric Generating Plant (VEGP) Units 3 and 4, located in Burke County, Georgia. SNC is the entity that is licensed to construct and operate VEGP Units 3 and 4. The granting of the exemption allows the departures from Tier 1 information asked for in the amendment. Because the acceptability of the exemption was determined in part by the acceptability of the amendment, the exemption and amendment are being issued concurrently.

DATES: The exemption and amendment were issued on October 15, 2021.

ADDRESSES: Please refer to Docket ID NRC-2008-0252 when contacting the NRC about the availability of information regarding this document. You may obtain publicly available information related to this document using any of the following methods:

• Federal Rulemaking Website: Go to https://www.regulations.gov and search for Docket ID NRC-2008-0252. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The request for the amendment and exemption was designated License Amendment Request (LAR) 21-001 and submitted by letter dated August 24, 2021 (ADAMS Accession No. ML21236A305).

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Billy Gleaves, Office of Nuclear Reactor Regulation, U.S. Nuclear Regulatory Commission, Washington, DC 20555-0001; telephone: 301 415-5848; email: Bill.Gleaves@nrc.gov.

SUPPLEMENTARY INFORMATION:

I. Introduction

The NRC is issuing License Amendment Nos. 188 and 186 to COLs NPF-91 and NPF-92, respectively, and is granting an exemption from Tier 1 information in the plant-specific DCD for the AP1000. The AP1000 DCD is incorporated by reference in appendix D, “Design Certification Rule for the AP1000,” to part 52 of title 10 of the Code of Federal Regulations (10 CFR). The exemption, granted pursuant to paragraph A.4 of section VIII, “Processes for Changes and Departures,” of 10 CFR part 52, appendix D, allows the licensee to depart from the Tier 1 information. With the requested amendment, SNC sought proposed changes to requirements in the plant-specific Tier 1 information and COL appendix C that are associated with components that cannot be installed in their final operational location until fuel is loaded into the reactor. The license amendment as issued revises Inspections, Tests, Analyses, and Acceptance Criteria (ITAAC) Nos. 68 (2.1.03.01), 75 (2.1.03.06.i), 515 (2.5.01.03e), 565 (2.5.05.02.i), and 570 (2.5.05.03b) in COL appendix C and plant-specific design control document (PS-DCD) Tier 1 information to remove requirements regarding location-specific inspection of components where the requirements are intended to reflect the final installed location of the components, and certain components cannot be installed in their final location until after fuel load. Because ITAAC must be satisfied before fuel load, these ITAAC could not have been completed as written. As revised, the ITAAC can be completed, and the ITAAC combined with post-fuel load verifications still verify that the applicable design requirements are met. The changes to the ITAAC and to the PS-DCD Tier 1 information also clarify certain design terminology and eliminate duplication.¹

¹ The amendment as issued differs from the proposed license markups in the LAR in two respects: (1) The NRC made certain non-substantive editorial changes to reflect the standard format of the license, and (2) the NRC applied a requested change for one ITAAC to a more limited set of components to be consistent with the justification provided in the LAR and the LAR's discussion of SNC's planned actions.

Part of the justification for granting the exemption was provided by the review of the amendment. Because the exemption is necessary in order to issue the requested license amendment, the NRC granted the exemption and issued the amendment concurrently, rather than in sequence. This included issuing a combined safety evaluation containing the NRC staff's review of both the exemption request and the license amendment. The exemption met all applicable regulatory criteria set forth in §§ 50.12, 52.7, 52.63, and section VIII.A.4 of appendix D to 10 CFR part 52. The license amendment was found to be acceptable as well. The combined safety evaluation is available in ADAMS under Accession No. ML21237A240.

Identical exemption documents (except for referenced unit numbers and license numbers) were issued to SNC for VEGP Units 3 and 4 (COLs NPF-91 and NPF-92). The exemption documents for VEGP Units 3 and 4 can be found in ADAMS under Accession Nos. ML21237A238 and ML21237A239, respectively. The exemption is reproduced (with the exception of abbreviated titles and additional citations) in Section II of this document. The amendment documents for VEGP COLs NPF-91 and NPF-92 are available in ADAMS under Accession Nos. ML21237A234 and ML21237A236, respectively. A summary of the amendment documents is provided in Section III of this document.

II. Exemption

Reproduced below is the exemption document issued to VEGP Units 3 and Unit 4. It makes reference to the combined safety evaluation that provides the reasoning for the findings made by the NRC (and listed under Item 1) in order to grant the exemption:

1. In a letter dated August 24, 2021, Southern Nuclear Operating Company (SNC) requested from the Nuclear Regulatory Commission (NRC or Commission) an exemption to allow departures from Tier 1 information in the certified Design Control Document (DCD) incorporated by reference in Title 10 of the Code of Federal Regulations (10 CFR) part 52, appendix D, “Design Certification Rule for the AP1000 Design,” as part of license amendment request (LAR) 21-001, “Clarification of ITAAC Regarding Invessel Components.”

For the reasons set forth in Section 3.1 of the NRC staff's Safety Evaluation, which can be found in ADAMS under Accession No. ML21237A240, the Commission finds that:

A. The exemption is authorized by law;

B. the exemption presents no undue risk to public health and safety;

C. the exemption is consistent with the common defense and security;

D. special circumstances are present in that the application of the rule in this circumstance would not serve the underlying purpose of the rule or is not necessary to serve the underlying purpose of the rule;

E. the special circumstances outweigh any decrease in safety that may result from the reduction in standardization caused by the exemption; and

F. the exemption will not result in a significant decrease in the level of safety otherwise provided by the design.

2. Accordingly, SNC is granted an exemption from the certified AP1000 DCD Tier 1 information, with corresponding changes to Appendix C of the Facility Combined License, as described in the licensee's request dated August 24, 2021. This exemption is related to, and necessary for the granting of License Amendment No. 188 [and 186 for Unit 4] which is being issued concurrently with this exemption.

3. As explained in Section 6.0 of the NRC staff's Safety Evaluation (ADAMS Accession No. ML21237A240), this exemption meets the eligibility criteria for categorical exclusion set forth in 10 CFR 51.22(c)(9). Therefore, pursuant to 10 CFR 51.22(b), no environmental impact statement or environmental assessment needs to be prepared in connection with the issuance of the exemption.

4. This exemption is effective as of the date of its issuance.

III. License Amendment Request

By letter dated August 24, 2021 (ADAMS Accession No. ML21236A305), SNC requested that the NRC amend the COLs for VEGP, Units 3 and 4, COLs NPF-91 and NPF-92. The proposed amendment is described in Section I of this Federal Register notice.

The Commission has determined for these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or COL, as applicable, proposed no significant hazards consideration determination, and opportunity for a hearing in connection with these actions, was published in the Federal Register on September 3, 2021 (86 FR 49572). No comments were received during the 30-day comment period.

The Commission has determined that these amendments satisfy the criteria for categorical exclusion in accordance with 10 CFR 51.22. Therefore, pursuant to 10 CFR 51.22(b), no environmental impact statement or environmental assessment need be prepared for these amendments.

IV. Conclusion

Using the reasons set forth in the combined safety evaluation, the staff granted the exemption and issued the amendment that SNC requested on October 15, 2021. The exemption and amendment were issued on October 15, 2021, as part of a combined package to SNC (ADAMS Accession No. ML21237A205).

Dated: October 28, 2021.
For the Nuclear Regulatory Commission.
Victor E. Hall,
Chief, Vogtle Project Office, Office of Nuclear Reactor Regulation.

[FR Doc. 2021-23942 Filed 11-2-21; 8:45 am]

BILLING CODE 7590-01-P